DEPARTMENT OF COMMERCE

International Trade Administration

[C-570-061, C-533-876]

Fine Denier Polyester Staple Fiber From the People's Republic of China and India: Amended Final Affirmative Countervailing Duty Determination for the People's Republic of China and Countervailing Duty Orders for the People's Republic of China and India

Correction

In notice document 2018-05371 beginning on page 11681 in the issue of Friday, March 16, 2018, make the following correction:

On page 11682, in the first column, the left column heading in table two, “Exporter/Producer from China” should read “Exporter/Producer from India”.

[FR Doc. C1-2018-05371 Filed 3-19-18; 8:45 am]

BILLING CODE 1301-00-D